DEPARTMENT OF ENERGY

Federal Energy Regulatory Commission

[Project No. 15319-000]

Jupiter Pumped Storage 1, LLC; Notice of Preliminary Permit Application Accepted for Filing and Soliciting Comments, Motions To Intervene, and Competing Applications

On July 12, 2023, Jupiter Pumped Storage 1, LLC, filed an application for a preliminary permit, pursuant to section 4(f) of the Federal Power Act (FPA), proposing to study the feasibility of the Mineral Run Pumped Storage Project (Mineral Run Project or project) to be located in Cambria County, Pennsylvania. The sole purpose of a preliminary permit, if issued, is to grant the permit holder priority to file a license application during the permit term. A preliminary permit does not authorize the permit holder to perform any land-disturbing activities or otherwise enter upon lands or waters owned by others without the owners' express permission.

The proposed Mineral Run Project would consist of the following: (1) a new 9,400-foot-long, 85-foot-high rock-filled embankment dike forming an upper reservoir having a surface area of 120 acres and a total storage capacity of approximately 9,840 acre-feet at a normal maximum water surface elevation of 2,282 feet above mean sea level (msl); (2) a new 15,200-foot-long, 85-foot-high rock-filled embankment dike forming a lower reservoir having a total storage capacity of approximately 9,840 acre-feet at a normal maximum water surface elevation of 2,062 feet msl; (3) a 32-foot-diameter, 100-foot-long vertical tunnel and a 32-foot-diameter, 4,500-foot-long horizontal tunnel and/or penstock connecting the upper and lower reservoirs; (4) a 120-foot-wide, 600-foot-long powerhouse containing six reversible turbine-generator units with a total rated capacity of 208 megawatts; (5) a new pump station along the eastern bank of Saltlick Run to convey water through a 1,300-foot-long, 2-foot-diameter steel conduit to the lower reservoir; (6) a 1.7-mile-long, 230-kilovolt transmission line connecting the project to an existing substation; and (7) appurtenant facilities. Initial fill and make-up water for the project would come from Saltlick Run. The proposed project would have an annual generation of 607,000 megawatt-hours.

Applicant Contact: Nate Sandvig, Rye Development, LLC, 830 NE Holladay Street, Portland, OR 97232; phone: 503-309-2496.

FERC Contact: Monir Chowdhury; phone: (202) 502-6736.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-15319-000.

More information about this project, including a copy of the application, can be viewed or printed on the “eLibrary” link of the Commission's website at http://www.ferc.gov/docs-filing/elibrary.asp. Enter the docket number (P-15319) in the docket number field to access the document. For assistance, contact FERC Online Support.

Dated: November 2, 2023.
Debbie-Anne A. Reese,
Deputy Secretary.

[FR Doc. 2023-24733 Filed 11-8-23; 8:45 am]

BILLING CODE 6717-01-P